SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before October 27, 2014.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: SBA Form 641 and 888 are used to collect information from the Agency's resource partners, including: Small Business Development Centers, SCORE, and Women's Business Centers that provide training and counseling to existing or potential small business owners through SBA funded grants, or cooperative agreements. SBA uses the information to facilitate its management and oversight of these SBA funded grants, assist in evaluating their impact on the small business community, and facilitate performance reporting to Congress and the President. The information is uploaded to SBA through the Entrepreneurial Development Management Information System (EDMIS).

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections

(1) Title: Entrepreneurial Development Management Information System (EDMIS) Customer Intake Form & Management Training Report Form.

Description of Respondents: SBA resource partners, including Small Business Development Centers (SBDCs), Women's Business Centers (WBCs), and SCORE, Form Numbers: Form 641 (Counseling Information Form) and Form 888 (Management Training Report).

Form Numbers: SBA Form 641, 888.

Estimated Annual Respondents: 1,265,000.

Estimated Annual Responses: 1,265,000.

Estimated Annual Hour Burden: 379,500.

Curtis B. Rich,
Management Analyst .

[FR Doc. 2014-22826 Filed 9-24-14; 8:45 am]

BILLING CODE 8025-01-P